DEPARTMENT OF COMMERCE

International Trade Administration

[A-580-852]

Notice of Final Determination of Sales at Less Than Fair Value: Prestressed Concrete Steel Wire Strand from the Republic of Korea

AGENCY: Import Administration, International Trade Administration, Department of Commerce.

EFFECTIVE DATE: December 8, 2003.

SUMMARY: We determine that prestressed concrete steel wire strand (PC strand) from the Republic of Korea (Korea) is being sold, or is likely to be sold, in the United States at less than fair value (LTFV), as provided in section 735 of the Tariff Act of 1930, as amended (the Act). The estimated margins of sales at LTFV are shown in the Continuation of Suspension of Investigation section of this notice.

FOR FURTHER INFORMATION CONTACT: Marin Weaver or Christopher Welty at (202) 482-2336 and (202) 482-0186, respectively; Import Administration, International Trade Administration, U.S. Department of Commerce, 14th Street and Constitution Avenue, NW, Washington, DC 20230.

SUPPLEMENTARY INFORMATION:

Case History

The preliminary determination in this investigation was published on July 17, 2003. See Notice of Preliminary Determination of Sales at Less Than Fair Value: Prestressed Concrete Steel Wire Strand from the Republic of Korea, 68 FR 42393 (July 17, 2003) (Preliminary Determination). Since the publication of the Preliminary Determination, the following events have occurred:

On August 4, 2003, Kiswire Ltd. (Kiswire) and Dong-Il Steel Manufacturing Co., Ltd. (Dong-Il), two Korean producers/exporters selected as mandatory respondents, requested that the Department of Commerce (the Department) postpone its final determination and fully extend the provisional measures by 60 days. On August 18, 2003, the Department published in the Federal Register the postponement of the final determination for PC strand from Korea. See Notice of Postponement of Final Antidumping Duty Determinations and Extension of Provisional Measures: Prestressed Concrete Steel Wire Strand From Brazil, India, and the Republic of Korea, 68 FR 49436 (August 18, 2003).

Scope of Investigation

For purposes of this investigation, PC strand is steel strand produced from wire of non-stainless, non-galvanized steel, which is suitable for use in prestressed concrete (both pretensioned and post-tensioned) applications. The product definition encompasses covered and uncovered strand and all types, grades, and diameters of PC strand.

The merchandise under investigation is currently classifiable under subheadings 7312.10.3010 and 7312.10.3012 of the Harmonized Tariff Schedule of the United States (HTSUS). Although the HTSUS subheadings are provided for convenience and customs purposes, the written description of the merchandise under investigation is dispositive.

Period of Investigation

The period of investigation is January 1, 2002, through December 31, 2002.

Facts Available

In the preliminary determination, we based the dumping margin for the mandatory respondents, Kiswire and Dong-Il, on adverse facts available pursuant to sections 776(a) and 776(b) of the Act. The use of adverse facts available was warranted in this investigation because both of the respondents failed to respond to any part of the antidumping duty questionnaires issued to them by the Department. See Preliminary Determination, 68 FR at 42393. The failure of these respondents to supply the requested information significantly impedes this proceeding because the Department cannot accurately determine a margin for these parties. Furthermore, these respondents did not give an explanation for their failure to supply such information, nor propose alternatives. Therefore, we found that Kiswire and Dong-Il failed to cooperate by not acting to the best of their ability. We assigned Kiswire and Dong-Il the highest margin stated in the notice of initiation. See Notice of Initiation of Antidumping Duty Investigations: Prestressed Concrete Steel Wire Strand From Brazil, India, the Republic of Korea, Mexico, and Thailand, 68 FR 9050 (February 27, 2003). We corroborated this margin in the preliminary determination and we continue to find this margin corroborated, pursuant to section 776(c) of the Act. See Memorandum regarding Corroboration of Data Contained in the Petition for Assigning Facts Available Rates, dated July 10, 2003. A complete explanation of both the selection and application of facts available can be found in the Preliminary Determination. See Preliminary Determination, 68 FR at 42394-95. Nothing has changed since the preliminary determination was issued that would affect the Department's selection and application of facts available.

No interested parties have commented since the publication of the preliminary determination on the use of adverse facts available in this investigation, or on the choice of the facts available margin. Accordingly, for the final determination, we are continuing to use the highest margin stated in the notice of initiation for Kiswire, and Dong-Il. The “All Others” rate remains unchanged as well.

Analysis of Comments Received

We received no comments from interested parties in response to our preliminary determination in this investigation. We did not hold a hearing because none was requested.

Continuation of Suspension of Liquidation

In accordance with section 735(c)(1)(B) of the Act, we are directing the U.S. Customs and Border Protection (CBP) to continue to suspend liquidation of all entries of PC strand exported from Korea that are entered, or withdrawn from warehouse, for consumption on or after the date of the Preliminary Determination. The CBP shall continue to require a cash deposit or the posting of a bond based on the estimated dumping margins shown below. The suspension of liquidation instructions will remain in effect until further notice.

We determine that the following dumping margins exist:

Manufacturer/exporter | Margin ­(percent)
Kiswire Ltd. | 54.19
Dong-Il Steel Manufacturing Co. Ltd. | 54.19
All Others | 35.64

International Trade Commission Notification

In accordance with section 735(d) of the Act, we have notified the International Trade Commission (ITC) of our determination. The ITC will determine, within 45 days, whether imports of subject merchandise from Korea are causing material injury, or threaten material injury, to an industry in the United States. If the ITC determines that material injury or threat of injury does not exist, this proceeding will be terminated and all securities posted will be refunded or canceled. If the ITC determines that such injury does exist, the Department will issue an antidumping duty order directing CBP officials to assess antidumping duties on all imports of the subject merchandise entered, or withdrawn from warehouse for consumption on or after the effective date of the suspension of liquidation.

This notice also serves as a reminder to parties subject to APO of their responsibility concerning the disposition of proprietary information disclosed under APO in accordance with 19 CFR 351.305. Timely notification of return/destruction of APO materials or conversion to judicial protective order is hereby requested. Failure to comply with the regulations and the terms of an APO is a sanctionable violation.

This determination is issued and published in accordance with sections 735(d) and 777(i)(1) of the Act.

Dated: December 1, 2003.
James J. Jochum,
Assistant Secretary for Import Administration.

[FR Doc. 03-30386 Filed 12-5-03; 8:45 am]

BILLING CODE 3510-DS-S